DEPARTMENT OF THE INTERIOR

Bureau of Land Management

[LLNVSO0520.L10100000.MU0000; 9-08807; TAS: 14X1109]

Temporary Closure at Stuart Ranch, Clark County, NV

AGENCY: Bureau of Land Management, Interior.

ACTION: Notice of closure.

SUMMARY: The Bureau of Land Management (BLM) is establishing a temporary closure for overnight camping, target shooting, and vehicular traffic on public land in the Stuart Ranch area northeast of Moapa, Nevada. The area will be open for day use only. This closure does not apply to hunting under the laws and regulations of the State of Nevada. This closure is being implemented to ensure public safety and health and to prevent further environmental degradation. This closure is authorized under the provisions of the Federal Land Policy and Management Act of 1976, 43 U.S.C. 1701 and 43 CFR 8364.1.

DATES: This closure will be in effect beginning May 4, 2009 and will remain in effect until a management plan for Stuart Ranch is completed or up to a period of two years, whichever is sooner.

FOR FURTHER INFORMATION CONTACT: Chief Ranger Erika Schumacher, (702) 515-5030 or Erika_Schumacher@blm.gov. People seeking information about BLM's management planning for this area may contact Sarah Peterson, (702) 515-5154 or Sarah_Peterson@blm.gov.

SUPPLEMENTARY INFORMATION: The following activities are restricted under this temporary closure: target shooting; overnight camping; and vehicular traffic. The public lands affected by the closure include:

Mount Diablo Meridian, Nevada

T. 13 S., R. 65 E. (Parcel 1)

Sec. 1, Lot 1, SE¼ NE¼; Lot 1

Excepting there from the 100 foot wide strip of land conveyed to the San Pedro Los Angeles and Salt Lake Railroad Company in document number U-536 recorded December 3, 1903 in the Official Records of Lincoln County, Nevada. Excepting there from the 100 foot wide strip of land conveyed to the San Pedro Los Angeles and Salt Lake Railroad Company in document number 2048 recorded November 22, 1910 in the Official Records of Clark County, Nevada. Excepting there from a strip of land encompassing 3.65 acres conveyed to the Los Angeles and Salt Lake Railroad in Book 3 Misc., Pages 107 and 106, recorded March 11, 1922 in the Official Records of Clark County, Nevada.

T. 13 S., R. 66 E.,

Sec. 6, Lot 5

T.13 S., R. 65 E., (Parcel 2)

Sec. 1, E½ SE¼

T. 13 S., R. 66 E.,

Sec. 6, Lots 6 and 7 excepting the road leading to Davies Springs in the Mormon Mountain Wilderness in Lot 7 will be open to vehicle traffic.

The aggregate area described contains 278 acres, more or less.

The BLM acquired the Stuart Ranch property in October 2007 to protect environmentally sensitive resources, including an extensive riparian corridor along a perennial reach of Meadow Valley Wash. The corridor is habitat for the Federally-listed endangered Southwestern Willow Flycatcher and two state listed sensitive fish species, the Meadow Valley Wash desert sucker and Meadow Valley Wash speckled dace. The wash flows perennially and supports a healthy and vigorous riparian area full of cottonwoods and willows. Past land uses degraded the landscape, including mining, agriculture and effects from flooding in 2005. Target shooting increased when the property came into public ownership, resulting in damage to sensitive cultural resources on the property. The BLM will restore the site to a natural condition, including enhancement and restoration of the riparian corridor, ephemeral washes and uplands. The closure is needed to protect environmentally sensitive resources from ongoing impacts until a plan is developed to determine how the area will be restored and managed.

The BLM prepared an environmental assessment (EA) on the proposed closure. Identified concerns included off-highway vehicle use in sensitive areas, lack of law enforcement, reduction of access for the public and disabled persons, and closing a route to Davies Springs in the Mormon Mountain Wilderness. These concerns were addressed in the EA and changes were made to the proposed action, specifically the construction of a fence to allow access to Davies Springs with the closure in place. The Decision Record and Finding of No Significant Impact were signed on December 17, 2008.

The BLM will post closure signs at main entry points to this area. Maps of the closure area are available at the BLM Southern Nevada District Office.

Violation of any of the terms, conditions or restrictions contained in this closure order may subject the violator to citation or arrest with a penalty of fine or imprisonment or both as specified by law.

Penalties: Violation of any regulations in this part by a member of the public is punishable by a fine not to exceed $1000 and/or imprisonment not to exceed 12 months. Exemptions: Any Federal, State, or local officer or employee in the scope of their duties. Members of any organized rescue or fire-fighting force in performance of an official duty. Any person authorized in writing by the BLM.

Authority: 43 CFR 8364.1.

Dated: February 19, 2009.
Mary Jo Rugwell,
Southern Nevada District Manager.

[FR Doc. E9-10128 Filed 5-1-09; 8:45 am]

BILLING CODE 1430-HC-P